DEPARTMENT OF STATE

[Public Notice 9315]

Notice of Public Meeting

The Department of State will conduct an open meeting at 9:00 a.m. on Thursday, November 12, 2015, in Room 5L18-01 of the United States Coast Guard Headquarters Building, 2703 Martin Luther King Jr. Ave. SE., Washington, DC 20593. The primary purpose of the meeting is to prepare for the 28th Extraordinary Council Session (CES28), the 29th Assembly (A29), and the 115th Council Session (C115) of the International Maritime Organization (IMO), to be held at the IMO Headquarters, United Kingdom, November 19-20; November 23-December 2; and, December 3, respectively.

The agenda items for CES28, to be considered include:

—Adoption of the agenda

—Report of the Secretary-General on credentials

—Strategy, planning and reform

—Resource management

—Results-based budget for the 2016-2017 biennium

—Report on the 37th Consultative Meeting of Contracting Parties to the London Convention 1972 and the 10th Meeting of Contracting Parties to the 1996 Protocol to the London Convention

—Report of the Council to the Assembly on the work of the Organization since the twenty-eighth regular session of the Assembly

—Protection of vital shipping lanes

—Periodic review of administrative requirements in mandatory IMO instruments

—External relations

—Report on the status of the Convention and membership of the Organization

—Report on the status of conventions and other multilateral instruments in respect of which the Organization performs functions

—Substantive items for inclusion in the provisional agendas for the next two sessions of the Council

—Supplementary agenda items, if any

The agenda items for A29, to be considered include:

—Adoption of the agenda

—Election of the President and the Vice-Presidents of the Assembly

—Consideration of proposed amendments to the Rules of Procedure of the Assembly

—Application of Article 61 of the IMO Convention—Report of the Council to the Assembly on any requests by Members for waiver

—Establishment of committees of the Assembly

—Consideration of the reports of the committees of the Assembly

—Report of the Council to the Assembly on the work of the Organization since the twenty-eighth regular session of the Assembly

—Strategy, planning and reform

— IMO Member State Audit Scheme

—Consideration of the reports and recommendations of the Maritime Safety Committee

—Consideration of the reports and recommendations of the Legal Committee

—Consideration of the reports and recommendations of the Marine Environment Protection Committee

—Consideration of the reports and recommendations of the Technical Co-operation Committee

—Consideration of the reports and recommendations of the Facilitation Committee

—Convention on the Prevention of Marine Pollution by Dumping of Wastes and Other Matter, 1972 and the 1996 Protocol thereto: report on the performance of Secretariat functions and other duties

—Progress report to the Assembly on Periodic review of administrative requirements in mandatory IMO instruments

—Resource management

—Global maritime training institutions

—External relations

—Report on the status of the Convention and membership of the Organization

—Report on the status of conventions and other multilateral instruments in respect of which the Organization performs functions

—Election of Members of the Council, as provided for in Articles 16 and 17 of the IMO Convention

—Election of Members of the IMO Staff Pension Committee

—Appointment of the External Auditor

—Approval of the appointment of the Secretary-General

—Date and place of the thirtieth session of the Assembly

—Farewell to Mr. Sekimizu

—Supplementary agenda items, if any

No agenda was published for C115.

Members of the public may attend this meeting up to the seating capacity of the room. To facilitate the building security process, and to request reasonable accommodation, those who plan to attend should contact the meeting coordinator, LCDR Tiffany Duffy, by email at tiffany.a.duffy@uscg.mil, or by phone at (202) 372-1376, not later than November 5th, 7 days prior to the meeting. Requests made after November 5, 2015 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO-related public meetings may be found at: www.uscg.mil/imo.

Dated: September 21, 2015.
Jonathan W. Burby,
Coast Guard Liaison Officer, Office of Ocean and Polar Affairs, Department of State.

[FR Doc. 2015-25791 Filed 10-8-15; 8:45 am]

BILLING CODE 4710-09-P